DEPARTMENT OF HEALTH AND HUMAN SERVICES

Centers for Medicare & Medicaid Services

42 CFR Parts 405 and 418

[CMS-1609-CN]

RIN 0938-AS10

Medicare Program; FY 2015 Hospice Wage Index and Payment Rate Update; Hospice Quality Reporting Requirements and Process and Appeals for Part D Payment for Drugs for Beneficiaries Enrolled in Hospice; Correction

AGENCY: Centers for Medicare & Medicaid Services (CMS), HHS.

ACTION: Final rule; correction.

SUMMARY: This document corrects technical errors that appeared in the final rule published in the Federal Register on August 22, 2014 entitled “Medicare Program; FY 2015 Hospice Wage Index and Payment Rate Update; Hospice Quality Reporting Requirements and Process and Appeals for Part D Payment for Drugs for Beneficiaries Enrolled in Hospice.”

DATES: Effective Date: October 1, 2014.

FOR FURTHER INFORMATION CONTACT: Debra Dean-Whittaker, (410) 786-0848.

SUPPLEMENTARY INFORMATION:

I. Background

In FR Doc. 2014-18506 of August 22, 2014 (79 FR 50451), there were a number of technical errors that are identified and corrected in the Correction of Errors section below. The provisions in this correction document are effective as if they had been included in the document published on August 22, 2014. Accordingly, the corrections are effective October 1, 2014.

II. Summary of Errors

On page 50492, in Table 8, we omitted the description of a quality reporting measure “Providing Support for Religious and Spiritual Beliefs”. We are adding the omitted measure to the table.

On Page 50493, in Table 9, we listed an incorrect deadline for the “Monthly data collection April-June 2015 (Q2).” We inadvertently provided November 1, 2015 as the deadline. We are correcting this error to reflect the correct monthly data collection deadline date of November 11, 2015.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued. Rulemaking is unnecessary because this notice merely fixes errors and makes no policy changes.

IV. Correction of Errors

In FR Doc. 2014-18506 of August 22, 2014 (79 FR 50451), make the following corrections:

1. On page 50492, in Table 8—“Hospice Experience of Care Survey Quality Measures and Their Items”, after the quality measure description of “Getting help for Symptoms” and before the quality measure description of “Information Continuity” add the following quality measure description to read as follows:

Providing Support for Religious and Spiritual Beliefs

(Support for religious or spiritual beliefs includes talking, praying, quiet time, or other ways of meeting your religious or spiritual needs.)

While your family member was in hospice care, how much support for your religious or spiritual beliefs did you get from the hospice team?

2. On page 50493, in Table 9—Data Submission Dates 2015-1016 For CAHPS® Hospice Survey, under the quarterly data submission deadline column the date “November 1, 2015” is corrected to read “November 11, 2015”.

Dated: April 24, 2015.
C'Reda Weeden,
Executive Secretary to the Department, Department of Health and Human Services.

[FR Doc. 2015-10169 Filed 4-29-15; 8:45 am]

BILLING CODE 4120-01-P